DEPARTMENT OF JUSTICE

Notice of Lodging of Proposed Consent Decree Under the Clean Water Act

Notice is hereby given that, for a period of 30 days, the United States will receive public comments on a proposed Partial Consent Decree in United States v. ATP Oil & Gas Corp. et al. (Civil Action No. 2:13-cv-0262), which was lodged with the United States District Court for the Eastern District of Louisiana on October 16, 2014.

The Complaint in this Clean Water Act case was filed against ATP Oil & Gas Corporation (“ATP”) and ATP Infrastructure Partners, LP (“ATP-IP”) in February 2013. The Complaint seeks civil penalties and injunctive relief under the Clean Water Act and the Outer Continental Shelf Lands Act (“OCSLA”) related to unauthorized discharges of oil and chemicals from an oil platform, the ATP Innovator, into the Gulf of Mexico. The Partial Consent Decree addresses the CWA and OCSLA claims against ATP-IP. Under the settlement, ATP-IP will pay a $1 million civil penalty for violation of the Clean Water Act and perform corrective measures to resolve the claims against it. The claims against ATP are not part of this settlement with ATP-IP and remain pending before the district court for future resolution.

The publication of this notice opens a period for public comment on the proposed Consent Decree. Comments should be addressed to the Assistant Attorney General, Environment and Natural Resources Division, and should refer to United States v. ATP Oil & Gas Corp. et al. (Civil Action No. 2:13-cv-0262), D.J. Ref. No. 90-5-1-1-10681/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $7.00 (25 cents per page reproduction cost) payable to the United States Treasury.

Thomas Carroll,
Assistant Section Chief, Environmental Enforcement Section, Environment and Natural Resources Division.

[FR Doc. 2014-25092 Filed 10-21-14; 8:45 am]

BILLING CODE 4410-15-P